DEPARTMENT OF COMMERCE

National Oceanic and Atmospheric Administration

[I. D. 012304B]

Fisheries of the Exclusive Economic Zone Off Alaska; Application for an Exempted Fishing Permit

AGENCY: National Marine Fisheries Service (NMFS), National Oceanic and Atmospheric Administration (NOAA), Commerce.

ACTION: Notice of receipt of an application for an exempted fishing permit.

SUMMARY: This notice announces receipt of an application for an exempted fishing permit (EFP) from the Alaska Fisheries Development Foundation, Inc. (AFDF).If granted, this EFP would be used to support an AFDF project that investigates and develops hook-and-line techniques specific to the harvest of various rockfish species in the Gulf of Alaska (GOA) Southeast Outside District (SEO), which historically had been targeted by trawl gear, a gear type now prohibited in the SEO.The project is intended to promote the objectives of the Fishery Management Plan for Groundfish of the Gulf of Alaska (FMP) by improving utilization of the rockfish resources in the SEO.

ADDRESSES: Copies of the EFP application may be obtained by writing to Sue Salveson, Assistant Regional Administrator for Sustainable Fisheries, Alaska Region, NMFS, P. O. Box 21668, Juneau, AK 99802, Attn: Lori Durall.

FOR FURTHER INFORMATION CONTACT: Melanie Brown, 907-586-7228 or melanie.brown@noaa.gov.

SUPPLEMENTARY INFORMATION: NMFS manages the domestic groundfish fisheries in the GOA under the FMP.The North Pacific Fishery Management Council (Council) prepared the FMP under the Magnuson-Stevens Fishery Conservation and Management Act (Magnuson-Stevens Act).Regulations governing the groundfish fisheries of the GOA appear at 50 CFR parts 600 and 679.The FMP and the implementing regulations at §§ 679.6 and 600.745(b) authorize the issuance of EFPs to allow fishing that would otherwise be prohibited.Procedures for issuing EFPs are contained in the implementing regulations.

NMFS received an application for an EFP from the AFDF.The purpose of this EFP is to support a project to develop and test hook-and-line gear for the harvest of rockfish species in the SEO that historically had been harvested with trawl gear.Trawl gear has been prohibited in the SEO since March 23, 1998, (63 FR 8356, February 19, 1998).The goal is to improve the utilization of rockfish resources in the SEO in ways that are consistent with Magnuson-Stevens Act national standard 1 which directs that conservation and management measures must achieve optimal yield from a fishery and national standard 5, which seeks to promote efficiency in the utilization offishery resources.The project, as described in the application, has two phases: (1) development of two rockfish-specific hook-and-line gear types that can be effectively handled on typical Southeast Alaska fishing vessels, and (2) comparative testing ofthe gear types developed in phase 1 in terms of catch of target rockfish species per unit of effort and incidental catch of nontarget species.

As an alternative to the use of trawl gear, which was prohibited in 1998, this EFP is necessary to allow the applicant to develop and test hook-and-line gear for rockfish in the SEO with certain exemptions from fishery closures and fish retention restrictions. The hook-and-line rockfish fisheries may close to prevent: (1) exceeding a total allowable catch (TAC) amount of a target species, (2) reaching overfishing levels of a non-target groundfish species, or (3) exceeding the prohibited species catch (PSC) limit for Pacific halibut.

Since the taking of rockfish is crucial for determining the effectiveness of hook-and-line gear in harvesting these species, and potential exists that the amount of some rockfish species taken during the EFP period would approach or exceed the TAC limits, the applicant has requested that rockfish taken during the testing not be counted toward the 2004 TAC amounts specified for the GOA under § 679.20. Counting rockfish taken during the testing phase against the TACs may create an additional burden on the hook-and-line industry by causing earlier closures of one or more hook-and-line fisheries.Although the EFP would allow the applicant to continue harvesting up to the amount specified in the permit, even if rockfish harvest amounts have resulted in the closure of one or more rockfish hook-and-line fisheries in the SEO, fishing activities would not be exempt from any hook-and-line fishery closures in the SEO that address overfishing concerns.

The EFP applicant has requested permission to retain and sell all rockfish species taken while fishing under the EFP.To accommodate this request, the EFP would exempt the applicant from one or more maximum retainable amounts specified in Table 10 of 50 CFR part 679.Since demersal shelf rockfish (DSR) are managed by the State of Alaska, which has special provisions for the retention and sale of DSR, the project is required to be conducted in compliance with the State's DSR regulations at 5 AAC 28.171, which allows full retention of DSR but limits the numbers of DSR that may be sold for revenue to the harvester.Sablefish and legal sized Pacific halibut would be retained within the limits of the individual fishing quota available to those individual(s) on the vessel conducting the project.Information gathered on the catch of target and incidentally taken species will allow the applicant to further modify the hook-and-line gear targeting rockfish species.

The applicant has requested the following amounts of target and incidental catch species: 50 metric tons (mt) each of Pacific ocean perch, other rockfish, and pelagic shelf rockfish; 15 mt of rougheye/shortraker rockfish; 2 mt each of thornyhead rockfish and DSR; and 10 mt each of Pacific halibut and sablefish.These levels of harvest and manner of harvest are not expected to have a significant impact on the marine environment, but the potential effects on the marine environment will be further analyzed during the application review process.

In accordance with § 679.6, NMFS has determined that the application warrants further consideration and has initiated consultation with the Council by forwarding the application to the Council for its input.The Council will consider the application during its February 2-10, 2004, meeting which will be held at the Hilton Hotel in Anchorage, Alaska.While the applicant has been invited to appear in support of the application, all interested parties may comment on the application at the meeting during public testimony.

Certain information regarding the vessel identification was not provided with the application, but will be provided as a condition of the EFP, once the vessels have been selected for the project.The NMFS Regional Administrator may consider and attach additional terms and conditions to the EFP that are consistent with the purpose of the experiment.Public comment may facilitate such consideration.

A copy of the application is available for review from NMFS (see ADDRESSES).

Authority: Authority: 16 U.S.C.1801 et seq.

Dated: January 29, 2004.
Bruce C. Morehead.
Acting Director, Office of Sustainable Fisheries, National Marine Fisheries Service.

[FR Doc. 04-2413 Filed 2-4-04; 8:45 am]

BILLING CODE 3510-22-S